DEPARTMENT OF COMMERCE

International Trade Administration

[C-507-501]

Certain In-Shell Pistachios From the Islamic Republic of Iran: Extension of Time Limit for Preliminary Results of Countervailing Duty Administrative Review

AGENCY: Import Administration, International Trade Administration, Department of Commerce.

ACTION: Notice of extension of time limit or preliminary results of countervailing duty administrative review.

EFFECTIVE DATE: October 23, 2002.

FOR FURTHER INFORMATION CONTACT: Eric B. Greynolds or Darla Brown, AD/CVD Enforcement, Office VI, Group II, Import Administration, International Trade Administration, U.S. Department of Commerce, 14th Street and Constitution Avenue, NW., Washington, DC 20230; telephone: (202) 482-2786.

Time Limits

Statutory Time Limits

Section 751(a)(3)(A) of the Tariff Act of 1930, as amended (the Act), requires the Department of Commerce (“the Department”) to make a preliminary determination within 245 days after the last day of the anniversary month of an order/finding for which a review is requested. However, if it is not practicable to complete the preliminary results of review within this time period, section 751(a)(3)(A) of the Act allows the Department to extend the time limit for the preliminary determination to a maximum of 365 days.

Background

On April 17, 2002 the Department initiated an administrative review of the countervailing duty order on certain in-shell pistachios from the Islamic Republic of Iran (Iran). See 67 FR 20089. The preliminary results are currently due no later than December 2, 2002.

Extension of Time Limit for Preliminary Results of Review

Upon further examination of the information submitted on the record of the administrative review, we have concluded that it is necessary to conduct a verification of the questionnaire responses. Because it is the Department's practice to verify administrative reviews prior to the issuance of preliminary results, we do not believe it is practicable to complete the preliminary results of the administrative review within the 245-day statutory time frame. Therefore, the Department is extending the time limits for completion of the preliminary results until April 1, 2003. See the Decision Memorandum from Melissa G. Skinner, Director, Office of AD/CVD Enforcement VI, to Bernard T. Carreau, Deputy Assistant Secretary, Import Administration, dated concurrent with this notice, which is on file in the Central Records Unit.

This extension is in accordance with section 751(a)(3)(A) of the Act.

Dated: October 17, 2002.
Bernard T. Carreau,
Deputy Assistant Secretary for Import Administration.

[FR Doc. 02-27012 Filed 10-22-02; 8:45 am]

BILLING CODE 3510-DS-P